DEPARTMENT OF DEFENSE

Office of the Secretary

Defense Logistics Agency (DLA) Address Directory

AGENCY: Department of Defense.

ACTION: Notice.

SUMMARY: The Defense Logistics Agency (DLA) is updating its Address Directory which is published as an appendix to DLA's compilation of Privacy Act systems of records notices. This notice benefits the public in advising them where to send requests for review. DLA FOIA/Privacy Points of Contact are found at: http://www.dla.mil/foia-privacy/foia_poc.aspx.

FOR FURTHER INFORMATION CONTACT: Ms. Jody Sinkler, 703-767-5045.

SUPPLEMENTARY INFORMATION: DLA Address Directory:

Defense Logistics Agency Headquarters, Andrew T. McNamara Building, 8725 John J. Kingman Road, Fort Belvoir, VA 22060-6221;

DLA Document Services Headquarters, 5450 Carlisle Pike Building 09, P.O. Box 2020, Mechanicsburg, PA 17055-0788;

DLA Distribution, 2001 Mission Drive, New Cumberland, PA 17070-5000;

DLA Energy, 8725 John J. Kingman Road, Fort Belvoir, VA 22060-6221;

DLA Logistics Information Service, 74 Washington Avenue, N., Battle Creek, MI 49037-3084;

DLA Strategic Materials, 8725 John J. Kingman Road, Fort Belvoir, VA 22060-6221;

DLA Disposition Services, 74 N. Washington, Battle Creek, MI 49037-3092;

DLA Land and Maritime, 3990 East Broad Street, Columbus, OH 43218-3990;

DLA Troop Support, 700 Robbins Avenue, Philadelphia, PA 19111-5092;

DLA Aviation, 8000 Jefferson Davis Highway, Richmond, VA 23297-5000;

DLA Transaction Services, 5250 Pearson Road, Building 207, Area C, Wright Patterson, OH 45433-5328;

DLA Logistics Management Standards Office, 8725 John J. Kingman Road, Fort Belvoir, VA 22060-6221;

DLA Central, 7115 South Boundary Boulevard, MacDill AFB, FL 33621-5101;

DLA Europe and Africa, Unit 23152, APO AE 09227;

DLA Pacific, 1025 Quincy Avenue, Suite 2000, Pearl Harbor, HI 96860-4512.

Dated: April 19, 2011.
Morgan F. Park,
Alternate OSD Federal Register Liaison Officer, Department of Defense.

[FR Doc. 2011-9752 Filed 4-21-11; 8:45 am]

BILLING CODE 5001-06-P